ENVIRONMENTAL PROTECTION AGENCY

[ER-FRL-9044-7]

Environmental Impact Statements; Notice of Availability

Responsible Agency: Office of Federal Activities, General Information 202-564-5632 or https://www.epa.gov/nepa/.

Weekly receipt of Environmental Impact Statements

Filed 04/29/2019 Through 05/03/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190085, Final, FERC, AK, Grant Lake Hydroelectric Project, Review Period Ends: 06/10/2019, Contact: Office of External Affairs 866-208-3372.

EIS No. 20190086, Final, USACE, CO, Adams and Denver Counties, Colorado General Investigation Study, Review Period Ends: 06/10/2019, Contact: Dave Crane 402-995-2676.

EIS No. 20190087, Final, NASA, VA, NASA WFF Site-wide Programmatic Environmental Impact Statement, Review Period Ends: 06/10/2019, Contact: Shari A. Miller 757-824-2327.

EIS No. 20190088, Draft, USACE, CA, Draft Integrated General Reevaluation Report and Environmental Impact Statement for San Francisco Bay to Stockton, California Navigation Study, Comment Period Ends: 06/24/2019, Contact: Stacie Auvenshine 904-314-7614.

EIS No. 20190089, Final, NPS, CA, Saline Valley Warm Springs Management Plan, Review Period Ends: 06/10/2019, Contact: Kelly Daigle 303-987-6897.

EIS No. 20190090, Final, BR, CA, Central Valley Project Water Supply Contracts Under Public Law 101-514 (Section 206): Contract Between the U.S. Bureau of Reclamation and the El Dorado County Water Agency, Subcontract Between the El Dorado County Water Agency and the El Dorado Irrigation District, and Subcontract Between the El Dorado County Water Agency and the Georgetown Divide Public Utility District, Review Period Ends: 06/10/2019, Contact: Cynthia Meyer 916-537-7060.

EIS No. 20190091, Final, FERC, LA, Plaquemines LNG and Gator Express Pipeline Project, Review Period Ends: 06/10/2019, Contact: Office of External Affairs 866-208-3372.

EIS No. 20190092, Final Supplement, USACE, AL, Mobile Harbor, Mobile, Alabama Integrated Final General Evaluation Report with Supplemental Environmental Impact Statement, Review Period Ends: 06/10/2019, Contact: Jennifer L. Jacobson 251-690-2724.

EIS No. 20190093, Final, USACE, CA, Whittier Narrows Dam Flood Control Project Dam Safety Modification Study, Review Period Ends: 06/10/2019, Contact: Deborah Lamb 213-452-3798.

EIS No. 20190094, Final, BLM, CA, Central Coast Field Office Proposed Resource Management Plan Amendment and Final Environmental Impact Statement for Oil and Gas Leasing and Development, Review Period Ends: 06/10/2019, Contact: Sky Murphy 831-582-2231.

EIS No. 20190095, Final, FHWA, SC, Carolina Crossroads I-20/26/126 Corridor Improvement Project, Contact: Jeffrey S. Belcher 803-253-3187. Under 23 U.S.C. 139(n)(2), FHWA has issued a single document that consists of a final environmental impact statement and record of decision. Therefore, the 30-day wait/review period under NEPA does not apply to this action.

Amended Notice

EIS No. 20180168, Draft, USACE, AL, Mobile Harbor, Mobile, Alabama Draft Integrated General Reevaluation Report with Supplemental Environmental Impact Statement, Comment Period Ends: 09/10/2018, Contact: Jennifer L. Jacobson 251-690-2724 Revision to FR Notice Published 07/27/2018; Correction to Document Type from Draft to Draft Supplemental.

EIS No. 20190060, Draft, USFWS, CA, Proposed Habitat Conservation Plan and Incidental Take Permit for Sierra Pacific Industries, Comment Period Ends: 07/01/2019, Contact: Kim Turner 916-414-6600. Revision to FR Notice Published 04/19/2019; Extending the Comment Period from 06/18/2019 to 07/01/2019.

EIS No. 20190082, Draft Supplement, BLM, AK, Supplemental Draft Environmental Impact Statement for the Haines Amendment to the Ring of Fire Resource Management Plan, Comment Period Ends: 08/01/2019, Contact: Marnie Graham 907-822-3217. Revision to FR Notice Published 05/03/2019; Correcting the Comment Period from 07/25/2019 to 08/01/2019.

Dated: May 6, 2019.
Robert Tomiak,
Director, Office of Federal Activities.

[FR Doc. 2019-09547 Filed 5-9-19; 8:45 am]

BILLING CODE 6560-50-P